DEPARTMENT OF STATE

[Public Notice 3613]

Bureau of Educational and Cultural Affairs Request for Grant Proposals: Civic Education Curriculum Development and Teacher Training Project for Kyrgyzstan

SUMMARY: The Office of Global Educational Programs, Bureau of Educational and Cultural Affairs of the United States Department of State announces an open competition for the Civic Education Curriculum Development and Teacher Training Project for Kyrgyzstan. Public and private non-profit organizations meeting the provisions described in IRS regulation 26 CFR 1.501(c) may submit proposals to cooperate with the Bureau in the administration of a two-year project to support the development and implementation of a new curriculum unit for a ninth grade civic education course in Kyrgyzstan. The Bureau will award up to $300,000 to facilitate the project. The U.S. organization will work in coordination with the Public Affairs Section of the U.S. Embassy in Bishkek; the Ministry of Education and its appointees in Kyrgyzstan; and an advisory group of civic educators from the Institute for Regional Studies, an NGO in Bishkek. The project will comprise three phases of activity:

(1) Recruitment and selection of a six-member curriculum development team of Kyrgyz educators and preliminary consultations in Bishkek, followed by the identification by the U.S. grantee organization of a reference collection of civic education and teacher training materials for delivery to the curriculum development team in Kyrgyzstan, (see the POGI for details of the recruitment and selection process);

(2) A 10 to 12 week U.S.-based curriculum development and teacher training workshop, coordinated by the U.S. grantee organization, in which the team will produce a draft curriculum unit which includes a teacher's guide and student handbook for the ninth grade civics course;

(3) Coordination by the U.S. grantee, in collaboration with the Ministry of Education and the local NGO partner, of testing of the draft curriculum unit in no fewer than twelve pilot-test schools in Kyrgyzstan; specialized training seminars for in-service and pre-service teachers in Kyrgyzstan; and revision and publication of a completed curriculum unit for use in follow-on activities.

Applicants may suggest, in their proposals, topics to be developed by the curriculum team; however, final determination of appropriate topics will be made in consultation with the curriculum development team from Kyrgyzstan before the start of the U.S.-based curriculum-training workshop in Phase II.

The Bureau solicits detailed proposals from U.S. educational institutions and public and private non-profit organizations to develop and administer this project. Grantee organizations will consult regularly with the Bureau and with the Public Affairs Section of the U.S. Embassy in Bishkek with regard to participant selection, program implementation, direction and assessment. Proposals should demonstrate an understanding of the issues confronting education in Kyrgyzstan as well as expertise in civic education, curriculum development and teacher training.

Program Information

Overview: The goals of the project are to assist a team of educators in Kyrgyzstan to develop an up-to-date curriculum unit for a ninth grade course in civic education and to assist in training teachers and teacher-trainers to use this unit in classrooms in Kyrgyzstan. The rationale for this project is that improving citizenship education at the high school level will better prepare students in Kyrgyzstan to participate actively in building a pluralistic, democratic society. Additionally, the Bureau expects that the project will promote democratic relations among members of the school community, including students, teachers, school administrators, and parents, while training teachers to assist in supporting these relationships.

Guidelines

Program Planning and Implementation: Grant activities should begin on or around September 1, 2001, with Phase I of the project, in which the grantee will collaborate with the Institute of Regional Studies to coordinate recruitment and selection of a six-member curriculum development team comprised of local practitioners (classroom teachers, teacher trainers, and curriculum specialists), and conduct a one to two week preliminary planning trip to Bishkek for consultations. Recruitment and selection activities should be finalized before the Phase I consultation visit. Proposals should suggest a tentative recruitment strategy and selection criteria for implementation by the Institute of Regional Studies. The recruitment strategy and selection criteria may be revised and confirmed by the U.S. grantee organization in cooperation with the Institute and in consultation with the Public Affairs Section of the U.S. Embassy after the grant is issued.

A committee in Kyrgyzstan, which will be responsible to the Institute of Regional Studies and the grantee organization, will conduct final selection of the curriculum development team. The committee will be comprised of local civic education specialists, representatives of the U.S. grantee organization, representatives of the local NGO partner and a representative from the Public Affairs Section of the U.S. Embassy in Bishkek.

During Phase I, the U.S. grantee organization will be responsible for the collection and mailing of a reference collection of civic education materials to the curriculum development team in advance of the U.S.-based curriculum development workshop.

In Phase II, members of the curriculum development team will spend approximately 10 to 12 weeks in a highly structured U.S.-based workshop to be sponsored and organized by the U.S. grantee organization, and will attend focused curriculum development and teaching methodology seminars; observe relevant aspects of the U.S. educational system; and begin drafting teacher and student materials for the ninth grade curriculum unit in consultation with the U.S. specialists. The grantee organization will be responsible for introducing the Kyrgyz team to leading U.S. civic educators with expertise pertinent to the topics to be explored, and to a broad range of relevant resources. The team should be familiarized with methods for effectively utilizing civic education resources in a classroom setting. The workshop schedule should incorporate significant time for both individual and group work on drafting materials as well as intensive training on specific approaches to the definition of civic education topics.

In addition, the workshop should include field experiences, which are relevant to the materials being produced (such as visits to schools, matching the Kyrgyz educators with U.S. teachers, and mentored attendance at professional meetings). Mentoring of the educators from Kyrgyzstan by U.S. peer practitioners should also be a prominent feature of the workshop.

In Phase III, the grantee organization will collaborate with the curriculum development team, the Ministry of Education and the local NGO partner to plan and implement a program for pilot-testing, revision and publication of curriculum materials, and coordination of specialized training seminars for in-service and pre-service teachers on the use of the new curriculum unit.

During the three project phases, the Kyrgyzstan Ministry of Education is expected to provide the following assistance to the participants: (1) Paid leave time for the curriculum development team during their stay in the U.S. and the subsequent in-service training work; (2) Facilitation of the logistics of in-service training sessions for teachers by providing appropriate space at regional teacher training centers.

Visa/Insurance/Tax Requirements

Programs must comply with J-1 visa regulations and the grantee organization will need to have authority to provide J-1 visa sponsorship by the time grant activities begin. Please refer to Solicitation Package for further information. Administration of the project must be in compliance with reporting and withholding regulations for federal, state, and local taxes as applicable. Recipient organizations should demonstrate tax regulation adherence in the proposal narrative and budget.

Budget Guidelines

The Bureau anticipates making one award in an amount not to exceed $300,000, to support program and administrative costs required to implement this program. The Bureau encourages applicants to provide maximum levels of cost sharing and funding from private sources in support of its programs. Because the Bureau's grants to eligible organizations with less than four years of experience in conducting international exchange programs are limited to $60,000, these organizations are not encouraged to apply under this competition. Applicants must submit a comprehensive budget for the entire program. There must be a summary budget as well as breakdowns reflecting both administrative and program budgets. Applicants may provide separate sub-budgets for each program component, phase, location, or activity to provide clarification. The summary and detailed project and administrative budgets should be accompanied by a narrative, which provides a brief rationale for each line item. The total administrative costs funded by the Bureau must be limited and reasonable.

Allowable costs for the program include the following:

(1) Administrative costs, including salaries and benefits, of grantee organization.

(2) Program costs, including general program costs and program costs for each participant from Kyrgyzstan in the U.S. based curriculum development seminar and the Kyrgyzstan-based pilot-testing activities. Please refer to the Solicitation Package for complete budget guidelines and formatting instructions.

Announcement Title and Number: All correspondence with the Bureau concerning this RFGP should reference the above title and number ECA/A/S/U-01-11.

FOR FURTHER INFORMATION CONTACT: The Humphrey Fellowships and Institutional Linkages Branch, Office of Global Educational Programs, U.S. Department of State, 301 4th Street, SW., Washington, DC 20547, telephone: 202-619-5289; Fax: 202-401-1433; or mwestbro@pd.state.gov, to request a solicitation package. The Solicitation Package contains detailed award criteria, required application forms, specific budget instructions, and standard guidelines for proposal preparation. Please specify Bureau Program Officer Marie A. Westbrook on all other inquiries and correspondence.

Please read the complete Federal Register announcement before sending inquiries or submitting proposals. Once the RFGP deadline has passed, Bureau staff may not discuss this competition with applicants until the proposal review process has been completed.

To Download a Solicitation Package Via Internet:

The entire Solicitation Package may be downloaded from the Bureau's website at http://exchanges.state.gov/education/RFGPs. Please read all information before downloading.

Deadline for Proposals: All proposal copies must be received by the Bureau of Educational and Cultural Affairs by 5 p.m. Washington, DC time on Friday May 11, 2001. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/A/S/U-01-11, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.”

Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. The program office, as well as the Public Affairs Section overseas, where appropriate will review all eligible proposals. Eligible proposals will be forwarded to panels of Bureau officers for advisory review. Proposals may also be reviewed by the Office of the Legal Adviser or by other Department elements. Final funding decisions are at the discretion of the Department of State's Acting Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission and responsiveness to the objectives and guidelines stated in this solicitation. Proposals should demonstrate substantive expertise in civic education and curriculum development.

2. Creativity and feasibility of program plan: A detailed agenda and relevant work plan should demonstrate substantive undertaking, logistical capacity, and a creative utilization of resources and relevant professional development opportunities. The agenda and work plan should be consistent with the program overview and guidelines described in this solicitation.

3. Ability to achieve project objectives: Objectives should be reasonable, feasible, and flexible. Proposals should clearly demonstrate how the institution will meet the program's objectives and plan.

4. Support of Diversity: Proposals should demonstrate substantive support of the Bureau's policy on diversity. Achievable and relevant features should be cited in both program administration (selection of participants, program venue and program evaluation) and program content (orientation and wrap-up sessions, program meetings, resource materials and follow-up activities). The proposal should demonstrate an understanding of the specific diversity needs in Kyrgyzstan and strategies for addressing these needs in terms of the project goals.

5. Institutional capacity and record: Proposed personnel and institutional resources should be adequate and appropriate to achieve the goals of the project. Proposals should demonstrate an institutional record of successful exchange programs, including responsible fiscal management and full compliance with all reporting requirements for past Bureau grants as determined by the grants staff. The Bureau will consider the past performance of prior recipients and the demonstrated potential of new applicants.

6. Project Evaluation: Proposals should include a plan to evaluate the activity's success, both as the activities unfold and at the end of the program. A draft survey questionnaire or other technique plus description of a methodology to use to link outcomes to original project objectives are recommended. Successful applicants will be expected to submit intermediate program and financial reports after each project component is concluded or quarterly, whichever is less frequent.

7. Follow-on Activities: Proposals should provide a plan for continued follow-on activity (without Bureau support), which ensures that Bureau supported programs are not isolated events.

8. Cost-effectiveness: The overhead and administrative components of the proposal, including salaries and honoraria, should be kept as low as possible. All other items should be necessary and appropriate and should reflect a commitment to pursuing project objectives. Proposals should maximize cost sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through the Freedom for Russia and Emerging Eurasian Democracies and Open Markets Support Act of 1993 (Freedom Support Act). Programs and projects must conform to Bureau requirements and guidelines outlined in the Solicitation Package. Bureau projects and programs are subject to the availability of funds.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 16, 2001.
Helena Kane Finn,
Acting Assistant Secretary for Educational and Cultural Affairs, U.S. Department of State.

[FR Doc. 01-7161 Filed 3-21-01; 8:45 am]

BILLING CODE 4710-05-P